NUCLEAR REGULATORY COMMISSION

[NRC-2024-0183]

NUREG: Guidelines for Inservice Testing at Nuclear Power Plants—Inservice Testing of Pumps and Valves and Inservice Examination and Testing of Dynamic Restraints (Snubbers) at Nuclear Power Plants

AGENCY: Nuclear Regulatory Commission.

ACTION: Final report; issuance.

SUMMARY: The U.S. Nuclear Regulatory Commission (NRC) is issuing NUREG-1482, Revision 4, “Guidelines for Inservice Testing at Nuclear Power Plants—Inservice Testing of Pumps and Valves and Inservice Examination and Testing of Dynamic Restraints (Snubbers) at Nuclear Power Plants.” NUREG-1482, Revision 4 provides a basic understanding of the regulatory basis for pump and valve inservice testing (IST) programs and dynamic restraint (snubbers) examination and testing programs. This NUREG also provides information regarding the NRC's involvement in the development of the American Society of Mechanical Engineers (ASME) Operation and Maintenance of Nuclear Power Plants, Division 1, OM Code: Section IST (OM Code).

DATES: This document was published in the Federal Register on October 2, 2025.

ADDRESSES: Please refer to Docket ID NRC-2024-0183 when contacting the NRC about the availability of information regarding this document. You may obtain publicly available information related to this document using any of the following methods:

• Federal Rulemaking Website: Go to https://www.regulations.gov and search for Docket ID NRC-2024-0183. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1482, Revision 4 is available in ADAMS under Accession No. ML25267A104.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Nicholas J. Hansing, Office of Nuclear Reactor Regulation, U.S. Nuclear Regulatory Commission, Washington, DC 20555-0001; telephone: 301-415-5318; email: Nicholas.Hansing@nrc.gov.

SUPPLEMENTARY INFORMATION:

I. Discussion

The NRC published a notice in the Federal Register on March 14, 2025 (90 FR 12184) requesting public comment on draft NUREG-1482, Revision 4. The public comment period closed on April 14, 2025. The NRC received 46 public comments. The public comments and the NRC staff's responses are presented in a comment resolution matrix available in ADAMS under Accession No. ML25262A190. The staff considered the public comments received on the draft document in preparing final NUREG-1482, Revision 4.

NUREG-1482, Revision 4 is applicable, unless stated otherwise, to editions and addenda (up to and including the 2022 Edition) to the OM Code that are incorporated by reference in paragraph 50.55a of title 10 of the Code of Federal Regulations (10 CFR), “Codes and standards.” The NRC staff discusses in this report IST program topics such as the NRC process for the review of the OM Code, conditions on the use of the OM Code, interpretations of the OM Code, and development of IST programs for new reactors. In this report, the NRC staff provides guidance included in NUREG-1482, Revision 3 that has been updated to reflect IST lessons learned and operating experience since the report was previously issued.

Effective August 16, 2024, the NRC amended 10 CFR 50.55a in a final rule (89 FR 58039; July 17, 2024) to provide more flexibility for nuclear power plant licensees by expanding the code of record interval from 10 years (120 months) to two consecutive IST and inservice inspection (ISI) program intervals. This rulemaking also incorporated by reference revisions to three NRC regulatory guides to approve new, revised, and reaffirmed ASME Code Cases. Accordingly, NUREG-1482, Revision 4 includes the new terminology for the code of record interval rather than the previous 120-month interval when discussing IST and ISI programs and also includes a new Appendix C that summarizes the final rule and its conditions. In addition, in response to a public comment, NUREG-1482, Revision 4 has been revised throughout to reference the 2022 Edition of the OM Code (the latest edition incorporated by reference in 10 CFR 50.55a) instead of the 2020 Edition. In accordance with 10 CFR 2.804(e)(2), the NRC staff has determined that a post-promulgation comment period would serve no public interest given the nature of the updates from the 2020 to the 2022 Edition of the OM Code.

II. Congressional Review Act

This NUREG is a rule as defined in the Congressional Review Act (5 U.S.C. 801-808). The Office of Management and Budget has found that it does not meet the criteria at 5 U.S.C. 804(2).

III. Executive Order (E.O.) 12866

The Office of Information and Regulatory Affairs determined that this NUREG is not a significant regulatory action under E.O. 12866.

Dated: September 29, 2025.
For the Nuclear Regulatory Commission.
Gregory Bowman,
Acting Director, Office of Nuclear Reactor Regulation.

[FR Doc. 2025-19201 Filed 10-1-25; 8:45 am]

BILLING CODE 7590-01-P